DEPARTMENT OF HEALTH AND HUMAN SERVICES

Substance Abuse and Mental Health Services Administration

Notice of Meeting

Pursuant to Public Law 92-463, notice is hereby given of the meeting on February 16, 2018, of the Substance Abuse and Mental Health Services Administration's (SAMHSA) National Advisory Council (SAMHSA NAC).

The SAMHSA NAC was established to advise the Secretary, Department of Health and Human Services (HHS), and the Assistant Secretary for Mental Health and Substance Use, SAMHSA, to improve the provision of treatments and related services to individuals with respect to substance use and to improve prevention services, promote mental health, and protect legal rights of individuals with mental illness and individuals who are substance users.

The meeting will include remarks from the Assistant Secretary for Mental Health and Substance Use; updates from the Department of Health and Human Services' Operating Divisions; updates from the ex-officio members, and a council discussion.

The meeting is open to the public and will be held at the Substance Abuse and Mental Health Services Administration, 5600 Fishers Lane, Rockville, MD 20857. Attendance by the public will be limited to space available. Interested persons may present data, information, or views orally or in writing, on issues pending before the Council. Written submissions should be forwarded to the contact person by February 8, 2018. Oral presentations from the public will be scheduled at the conclusion of the meeting. Individuals interested in making oral presentations must notify the contact person by February 8, 2017. Five minutes will be allotted for each presentation.

The meeting may be accessed via telephone. To attend on site; obtain the call-in number, access code, and/or web access link; submit written or brief oral comments; or request special accommodations for persons with disabilities, please register on-line at: http://nac.samhsa.gov/Registration/meetingsRegistration.aspx, or communicate with SAMHSA's Committee Management Officer, CDR Carlos Castillo (see contact information below).

Meeting information and a roster of Council members may be obtained either by accessing the SAMHSA Council's website at http://www.samhsa.gov/about-us/advisory-councils/ or by contacting CDR Castillo. Substantive program information may be obtained after the meeting by accessing the SAMHSA Council's website, http://nac.samhsa.gov/, or by contacting CDR Castillo.

Council Name: Substance Abuse and Mental Health Services Administration National Advisory Council.

Date/Time/Type: February 16, 2018, 9:00 a.m. to 3:45 p.m. EDT, Open.

Place: Substance Abuse and Mental Health Services Administration, 5600 Fishers Lane, Rockville, Maryland 20857.

Contact: CDR Carlos Castillo, Committee Management Officer and Designated Federal Official, SAMHSA National Advisory Council, Room 18E77A, 5600 Fishers Lane, Rockville, Maryland 20857 (mail), Telephone: (240) 276-2787, Email: carlos.castillo@samhsa.hhs.gov.

Carlos Castillo,
Committee Management Officer, SAMHSA.

[FR Doc. 2018-02173 Filed 2-2-18; 8:45 am]

BILLING CODE 4162-20-P